DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of December 8 through December 12, 2008.

In order for an affirmative determination to be made for workers of a primary firm and a certification issued regarding eligibility to apply for worker adjustment assistance, each of the group eligibility requirements of section 222(a) of the Act must be met.

I. Section (a)(2)(A), all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B), both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

None.

The following certifications have been issued. The requirements of section 222(a)(2)(B) (shift in production) of the Trade Act have been met.

None.

The following certifications have been issued. The requirements of section 222(b) (supplier to a firm whose workers are certified eligible to apply for TAA) of the Trade Act have been met.

None.

The following certifications have been issued. The requirements of section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of section 222(a)(2)(A) (increased imports) and section 246(a)(3)(A)(ii) of the Trade Act have been met.

TA-W-64,245; Securitas Security Services USA, Inc., Global Automotive Services Division, Dayton, OH: October 15, 2007.

TA-W-64,361; Hilex Poly Co., LLC, Mount Olive, NC: November 5, 2007.

TA-W-64,429; National Starch and Chemical Company, Humboldt Ind., Hazleton, PA: July 22, 2008.

TA-W-64,433; Riverside Furniture Corporation, Fort Smith, AR: November 13, 2008.

TA-W-64,481; Covalence Specialty Materials, LLC, Berry Plastics, Work Force, LLC, Albertville, AL: November 19, 2007.

TA-W-64,555; Blair Mills, LLC, Action Staffing, Employment Staffing, Belton, SC: November 11, 2007.

TA-W-64,581; Renfro Corporation, American Service, Whitmire, SC: December 1, 2007.

TA-W-64,123; General Chemical LLC, Formerly Known as Reheis, Inc., Berkeley Heights, NJ: September 24, 2007.

TA-W-64,254; ITW CIP, Connecticut Div., Waterbury, CT: October 20, 2007.

TA-W-64,275; Reynolds Foil, Inc., Richmond Foil Facility, Reynolds Consumer Products, Richmond, VA: October 21, 2007.

TA-W-64,332; Barnes Aerospace, Windsor Division, Windsor, CT: October 31, 2007.

TA-W-64,335; Indiana Handle Co., Inc., Paoli, IN: October 29, 2007.

TA-W-64,352; Maury City Plastics, Inc, Maury City, TN: October 16, 2007.

TA-W-64,370; Wausau Paper Specialty Products, LLC, Wausau Paper Corp, Paper Machine 10, Jay, ME: November 4, 2007.

TA-W-64,445; Stella Starr, South San Francisco, CA: November 13, 2007.

The following certifications have been issued. The requirements of section 222(a)(2)(B) (shift in production) and section 246(a)(3)(A)(ii) of the Trade Act have been met.

TA-W-64,112; Dixiewire, Division of Alcoa Electronical & Electronics Solutions, Nashville, TN: September 24, 2007.

TA-W-64,203; Gates Corporation, Siloam Springs, AR: October 9, 2007.

TA-W-64,285; ITT Corporation, Flow Control Div., Volt Temp, Innovative Staffing, Santa Ana, CA: October 24, 2007.

TA-W-64,312; Acme-McCrary Corp, Asheboro, NC: October 29, 2007.

TA-W-64,417; Wee Ones, Inc., Production Department, St. Peters, MO: November 5, 2007.

TA-W-64,432; Shurflo, LLC, Cypress, CA: November 3, 2007.

TA-W-64,443; Atlantic Durant Technology, Inc., Atlantic Tool, Manpower, Inc., Harlingen, TX: November 14, 2007.

TA-W-64,489; Wyeth Pharmaceuticals, Wyeth, Rouses Point, NY: November 19, 2007.

TA-W-64,491; Carbone Kirkwood, LLC, Farmville, VA: September 28, 2008.

TA-W-64,514; El Paso Chile Company & Desert Pepper Trading, Southwest Staffing, El Paso, TX: November 21, 2007.

TA-W-64,517; DeRoyal Industries, LMB Division, San Luis Obispo, CA: November 13, 2007.

TA-W-64,556; Woodhead LP, Automation & Electrical Products A Division of Molex, El Paso, TX: November 26, 2007.

TA-W-64,557; Ontario Die Company of America, Port Huron, MI: November 24, 2007.

TA-W-64,575; Steelcase, Inc., Global Headquarters, Grand Rapids, MI: November 20, 2007.

TA-W-64,582; Gates Mectrol, Gates Corp., Salem, NH: November 25, 2007.

TA-W-64,608; Eljer Inc., Ford City, PA: January 20, 2009.

TA-W-64,348; Tetra Pak Gable Top Systems, Inc., Minneapolis, MN: October 31, 2007.

TA-W-64,367; Suntec Industries, Inc., Glasgow, KY: December 6, 2008.

TA-W-64,391; Harris Stratex Networks Corp., Production Div., Manpower, Green Resources, Volt, San Antonio, TX: November 6, 2007.

TA-W-64,401; Qimonda 200nm Facility, Sandston, VA: November 11, 2007.

TA-W-64,457; Xerox Corporation, Oklahoma City, OK: November 17, 2007.

TA-W-64,472; Hyosung USA, Inc., Decatur, AL: November 18, 2007.

TA-W-64,484; The Lang Companies, Miller O'Connell Printing, Manpower, Delafield, WI: November 19, 2007.

TA-W-64,530; Fujimi Corporation, Fujimi, Inc., Tualatin, OR: November 24, 2007.

The following certifications have been issued. The requirements of section 222(b) (supplier to a firm whose workers are certified eligible to apply for TAA) and section 246(a)(3)(A)(ii) of the Trade Act have been met.

TA-W-64,011; Johnson Controls, Inc., Automotive Div., Cadiz, KY: September 8, 2007.

TA-W-64,226; Diversified Machine, Inc., Canton, MI: October 8, 2007.

TA-W-64,310; Dana Holding Corporation, Structural Solutions, Career Personnel, Longview, TX: October 29, 2007.

TA-W-64,434; Riverside Furniture Corporation, Plant 5, Russellville, AR: November 13, 2007.

TA-W-64,593; Sonoco, Industrial Products Division, Pittsfield, ME: December 3, 2007.

The following certifications have been issued. The requirements of section 222(b) (downstream producer for a firm whose workers are certified eligible to apply for TAA based on increased imports from or a shift in production to Mexico or Canada) and section 246(a)(3)(A)(ii) of the Trade Act have been met.

None.

Negative Determinations for Alternative Trade Adjustment Assistance

In the following cases, it has been determined that the requirements of 246(a)(3)(A)(ii) have not been met for the reasons specified.

The Department has determined that criterion (1) of section 246 has not been met. The firm does not have a significant number of workers 50 years of age or older.

None.

The Department has determined that criterion (2) of section 246 has not been met. Workers at the firm possess skills that are easily transferable.

None.

The Department has determined that criterion (3) of section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,553; Springs Creative Products Group, Distribution Center, 300 Chatham Ave., Rock Hall, SC.

The investigation revealed that criteria (a)(2)(A)(I.B.) (sales or production, or both, did not decline) and (a)(2)(B)(II.B.) (shift in production to a foreign country) have not been met.

TA-W-64,285A; ITT Corporation—Interconnect Solutions Division, Interconnect Solutions, Volt Temp., Innovation Staffing, Santa Ana, CA.

TA-W-64,337; Moline Machinery, LLC, Duluth, MN.

The investigation revealed that criteria (a)(2)(A)(I.C.) (increased imports) and (a)(2)(B)(II.B.) (shift in production to a foreign country) have not been met.

TA-W-64,024; Cleaning Technologies Group, Blackstone-Ney Ultrasonics Div., Jamestown, NY.

TA-W-64,134; Diebold, Inc., Hebron, OH.

TA-W-64,163; Barnes Aerospace, Ceramics Division, Barnes Group, Inc., Windsor, CT.

TA-W-64,180; Conestoga Wood Specialties Corporation, Beavertown, PA.

TA-W-64,321; Olympic Panel Products, LLC, Shelton, WA.

TA-W-64,334; Eaton Electrical, Inc., Power Quality Div., Engineering Dept, Raleigh, NC.

TA-W-64,329; Kronos, Inc., Software Manufacturing Operation, Chelmsford, MA.

The workers' firm does not produce an article as required for certification under section 222 of the Trade Act of 1974.

TA-W-64,230; Hooker Furniture Company, Martinsville, VA.

TA-W-64,437; United Airlines, Inc., Seattle-Tacoma Int'l Airport Maintenance Division, Seattle, WA.

TA-W-64,531; Beacon Looms, Inc., Repackaging Department, Teaneck, NJ.

TA-W-64,579; Havi Global Solutions, Int'l Promotions Leadership Latin America Div., Downers Grove, IL.

The investigation revealed that criteria of section 222(b)(2) has not been met. The workers' firm (or subdivision) is not a supplier to or a downstream producer for a firm whose workers were certified eligible to apply for TAA.

None.

I hereby certify that the aforementioned determinations were issued during the period of December 8 through December 12, 2008. Copies of these determinations are available for inspection in Room N-5428, U.S. Department of Labor, 200 Constitution Avenue, NW., Washington, DC 20210 during normal business hours or will be mailed to persons who write to the above address.

Dated: December 19, 2008.
Linda G. Poole,
Certifying Officer, Division of Trade Adjustment Assistance.

[FR Doc. E8-30934 Filed 12-29-08; 8:45 am]

BILLING CODE 4510-FN-P